DEPARTMENT OF LABOR

Employment and Training Administration

Appointments to the Advisory Committee on Apprenticeship (ACA)

AGENCY: Employment and Training Administration, Labor.

ACTION: Notice of ACA appointments.

SUMMARY: The Employment and Training Administration hereby announces the appointment of 32 members to fill vacancies on the Advisory Committee on Apprenticeship (ACA), an advisory board to the Secretary. The ACA, which is authorized by Section 2 of the National Apprenticeship Act (29 U.S.C. 50), complies with the requirements of the Federal Advisory Committee Act (5 U.S.C., App.). The Committee will be an effective instrument for providing assistance, advice, and counsel to the Secretary of Labor and the Assistant Secretary for the Employment and Training Administration in the development and implementation of Administration policies and programs regarding apprenticeship.

Members are appointed for one-year or two-year terms. The membership of the Committee shall include equal representation of employers, labor organizations, and the public. The National Association of State and Territorial Apprenticeship Directors (NASTAD) and the National Association of Government Labor Officials (NAGLO) will both be represented by their current President on the public group of the Committee. The Secretary shall appoint one of the public members as Chairperson of the Advisory Committee.

FOR FURTHER INFORMATION CONTACT: Mr. Anthony Swoope, Administrator, Office of Apprenticeship, Employment and Training Administration, U.S. Department of Labor, Room N-5311, 200 Constitution Avenue, NW., Washington, DC 20210. Telephone: (202) 693-2796, (this is not a toll-free number).

SUPPLEMENTARY INFORMATION: The following is a list of the Committee members by group:

Represents: Employers

Mr. Robert W. Baird, Vice President, Apprenticeship and Training, Standards and Safety, Independent Electrical Contractors, Inc., Alexandria, Virginia.

Ms. Linda Bien, President and CEO, North East Medical Services, San Francisco, California.

Ms. Phyllis Eisen, Vice President, Manufacturing Institute, Washington, DC.

Ms. Julie A. Flik, Executive Vice President, Compass Group, North American Division, Bion Island, Mamaroneck, New York.

Mr. Fred Haag, Senior Vice President—Electrical, Infrasource Inc., Madison, Mississippi.

Mr. Kelvin D. Harrison, Technical Training Manager, Caterpillar, Inc., Peoria, Illinois.

Mr. Neill J. Hopkins, Vice President of Skills Development, Computing Technology Industry Association, Oakbrook Terrace, Illinois.

Mr. Frederick N. Humphreys, President & CEO, Home Builders Institute, Washington, DC.

Mr. Stephen C. Mandes, Executive Director, National Institute for Metalworking Skills, Fairfax, Virginia.

Ms. Karen T. Soehner, Corporate Compliance Officer, Family Senior Care, Saint Augustine, Florida.

Mr. Robert Piper, Vice President of Workforce Development, Associated Builders and Contractors, Inc., Arlington, Virginia.

Represents: Labor

Mr. John T. Ahern, Business Manager, International Union of Operating Engineers Local 30, Richmond Hill, New York.

Mr. George H. Bliss, III, Retired Director of Training Administration, United Association of Journeymen & Apprentices of the Plumbing & Pipe Fitting Industry of the U.S. & Canada, Washington, DC.

Mr. Stephen A. Brown, Director, Construction Training Administration Department, International Union of Operating Engineers, Washington, DC.

Mr. William P. Doyle, Attorney, Marine Engineers' Beneficial Association, Washington, DC.

Dr. John S. Gaal, Director of Training Administration & Workforce Development, Carpenters' District Council of Greater St. Louis and Vicinity, St. Louis, Missouri.

Mr. William K. Irwin, Jr., Executive Director, Carpenters International Training Fund, Las Vegas, Nevada.

Mr. John Mason, Director, Seafarers International Union, Paul Hall Institute, Piney Point, Maryland.

Mr. Joseph A. Miccio, Recording Secretary, Uniformed Firefighters Association of Greater New York, Local 94 I.A.F.F AFL-CIO, New York, New York.

Mr. Edward Mullins, President, Sergeants Benevolent Association, New York, New York.

Mr. Michael L. White, Executive Director of Apprenticeship and Training, International Union of Bridge, Structural, Ornamental and Reinforcing Iron Workers, Washington, DC.

Represents: Public

Dr. Philip J. Anderson, President, The National Association of Government Labor Officials, Frankfurt, Kentucky.

Ms. Sharon C. Chu, Attorney, Law Offices of Sharon C. Chu, Rockville, Maryland.

Mr. Guarione Diaz, President and Executive Director, Cuban American National Council, Inc., Miami, Florida.

Ms. Rita DiMartino, New York, New York.

Ms. Diana Enzi, Washington, DC.

The Honorable Mufi Hannemann, Mayor of Honolulu, Honolulu, Hawaii.

Mr. Thomas F. Hartnett—Chairperson, Attorney, Meyer, Suozzi, English and Klein, PC, Albany, New York.

Ms. Jean Sickles, President, National Association of State and Territorial Apprenticeship Directors, Columbus, Ohio.

Dr. Irving Pressley McPhail, President and CEO, The McPhail Group, Ltd, Ownings Mill, Maryland.

Ms. Audrey Silverstein, Attorney, Merion, Pennsylvania.

Mr. Charles Wilson, Department Head of Machine Tool Technology, Greenville Technical College, Greenwood, South Carolina.

Nominees were selected from employer or national employer associations, religious, social welfare, academic, charitable organizations, community based organizations, national women's organizations, and state or local government.

Signed at Washington, DC, this 17th day of May, 2007.
Emily Stover DeRocco,
Assistant Secretary for Employment and Training.

[FR Doc. E7-9919 Filed 5-22-07; 8:45 am]

BILLING CODE 4510-FR-P